DEPARTMENT OF THE INTERIOR

Bureau of Land Management

[CO530-1430-ES; COC-63839]

Notice of Realty Action: Proposed Classification of Public Lands for Recreation and Public Purposes Lease in Rio Grande County, CO

AGENCY: Bureau of Land Management, Department of the Interior.

ACTION: Notice of realty action.

SUMMARY: The following public land in Rio Grande County, Colorado, has been examined and found suitable for classification for lease to the Town of South Fork, Colorado under the provisions of the Recreation and Public Purposes Act, as amended (43 U.S.C. 869 et seq.) The Town of South Fork proposes to use the land for recreation purposes. Publication of this notice will initiate public review, consultation and collaboration for this classification action.

New Mexico Principal Meridian, Colorado

T.40 N., R. 3 E.,

Sec. 26, metes and bounds tract in lot 1 and the NW¼SW¼;

Sec. 27, metes and bounds tract in lot 9 and the NE¼4NE¼.

The total amount of public land affected by this classification comprises approximately 62 acres.

Upon publication of this notice in the Federal Register, the above-described land will be segregated from all other forms of appropriation under the public land laws, including the general mining laws, except for lease under the Recreation and Public Purposes Act and leasing under the mineral leasing laws. If an application to lease the lands has not been filed within18 months following the publication of this notice in the Federal Register, this segregation will automatically expire, and the public lands classified in this notice will return to their former status without further action by the authorized officer.

SUPPLEMENTARY INFORMATION: The Town of South Fork proposes to construct, operate and maintain recreation facilities on the above-described land. The land is not needed for Federal purposes. Leasing this public land parcel is consistent with the San Luis Resource Management Plan (December 1985) and would be in the public interest. The lease if issued, would be subject to the provisions of the Recreation and Public Purposes Act and applicable regulations of the Secretary of the Interior; detailed information concerning this action is available for review at the Del Norte Field Office, Bureau of Land Management, 13308 West Highway 160, Del Norte, Colorado, or by calling William Miller (719-852-6219).

Classification Comments: Interested parties may submit comments involving the suitability of the land for recreation purposes. Comments on the classification are restricted to whether the land is physically suited for the proposal, whether the use will maximize the future use or uses of the land, whether the use is consistent with local planning and zoning, or whether the use is consistent with State and Federal programs.

Application Comments: Interested parties may submit comments regarding the specific use proposed in the application and plan of development, whether the Bureau of Land Management followed proper administrative procedures in reaching the decision, or any other factor not directly related to the suitability of the land for recreation purposes.

For a period of 45 days from the date of publication of this notice in the Federal Register, interested parties may submit comments regarding the proposed lease or classification of the land to the Field Manager, Del Norte Field Office, Bureau of Land Management, 13308 West Highway 160, Del Norte, Colorado 81132. Any adverse comments will be evaluated by the State Director, who may sustain, vacate, or modify this realty action. In the absence of any adverse comments, this realty action will become the final determination of the Department of the Interior.

Dated: April 10, 2003.
Randall Burgess,
Del Norte Field Manager.

[FR Doc. 03-15049 Filed 6-13-03; 8:45 am]

BILLING CODE 4310-JB-P